DEPARTMENT OF COMMERCE

National Oceanic and Atmospheric Administration

[I.D. 040102A]

New England Fishery Management Council; Public Meetings

AGENCY: National Marine Fisheries Service (NMFS), National Oceanic and Atmospheric Administration (NOAA), Commerce.

ACTION: Notice of public meeting.

SUMMARY: The New England Fishery Management Council (Council) is scheduling a public meeting of its Groundfish Oversight Committee in April 2002, to consider actions affecting New England fisheries in the exclusive economic zone. Recommendations from this group will be brought to the full Council for formal consideration and action, if appropriate.

DATES: The meeting will be held on April 23 and 24, 2002. See SUPPLEMENTARY INFORMATION for specific dates and times.

ADDRESSES: The meeting will be held in Peabody, MA. See SUPPLEMENTARY INFORMATION for specific locations.

FOR FURTHER INFORMATION CONTACT: Paul J. Howard, Executive Director, New England Fishery Management Council (978) 465-0492. Requests for special accommodations should be addressed to the New England Fishery Management Council, 50 Water Street, Mill 2, Newburyport, MA 01950; telephone: (978) 465-0492.

SUPPLEMENTARY INFORMATION:

Meeting Agenda

Tuesday, April 23, 2002, at 9:30 a.m. and Wednesday, April 24, 2002, at 8:30 a.m. - Groundfish Oversight Committee Meeting.

Location: Holiday Inn, 31 Hampshire Street, Mansfield, MA 02048; telephone: (508) 339-2200.

The Committee will continue development of Amendment 13 to the Northeast Multispecies Fishery Management Plan, Amendment 13 will end overfishing and establish rebuilding schedules for overfished stocks. At a meeting on February 27, 2002, the New England Council decided to develop groundfish management measures for five broad areas and one user group: inshore Gulf of Maine, offshore Gulf of Maine, eastern Georges Bank, western Georges Bank, Southern New England/Mid Atlantic, and recreational/charter/party. This meeting will focus on commercial fishing for groundfish in the Eastern and Western Georges Bank areas. Measures for the Western Georges Bank area will be discussed on Tuesday, April 23, 2002, and measures for the Eastern Georges Bank area will be discussed on Wednesday, April 24, 2002. Proposed area boundaries can be obtained from the Council (see ADDRESSES). Interested parties will be consulted to identify management measures that will achieve specific biological, economic, and social objectives identified by the Council. Such measures may include, but are not limited to, trip or possession limits, changes to the days-at-sea program, year-round or seasonal closed areas, or gear changes. Suggestions for management measures should consider all Magnuson-Stevens Act requirements.

The Committee will consider these suggested measures and will develop a recommendation that will be reviewed by the Council at a later date. After Council approval, the measures will be analyzed and included in a draft supplemental environmental impact statement.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: April 1, 2002.
Richard W. Surdi,
Acting Director, Office of Sustainable Fisheries, National Marine Fisheries Service.

[FR Doc. 02-8191 Filed 4-4-02; 8:45 am]

BILLING CODE 3510-22-S